DEPARTMENT OF ENERGY

Federal Energy Regulatory Commission

[Project No. 13795-000]

Preliminary Permit Application Accepted for Filing and Soliciting Comments, Motions To Intervene, and Competing Applications; Mahoning Hydropower, LLC

June 10, 2010.

On May 25, 2010, Mahoning Hydropower, LLC filed an application, pursuant to section 4(f) of the Federal Power Act, proposing to study the feasibility of the Mahoningside Hydroelectric Project No. 13795, to be located at the existing Warren-Summit Street Dam on the Mahoning River, in the City of Warren in Trumbull County, Ohio. The Warren-Summit Street Dam is owned and operated by the City of Warren.

The proposed project would consist of: (1) The existing low head gravity dam 12 feet in height, with an approximate spillway crest length of 175 feet; (2) two new tubular S-Type propeller turbine-generator units with a combined capacity of 310 kilowatts; (3) a new powerhouse to be located near the right abutment of the existing filter house; (4) a new tailrace; (5) a new 350 foot-long, 600-Volt alternating current, transmission line; and (6) appurtenant facilities. The project would have an estimated annual generation of 1,800 megawatt-hours.

Applicant Contact: Anthony J. Marra III, 11365 Normandy Lane, Auburn Township, OH 44023, (440) 804-6627.

FERC Contact: Tyrone A. Williams, (202) 502-6331.

Deadline for filing comments, motions to intervene, and competing applications (without notices of intent), or notices of intent to file competing applications: 60 days from the issuance date of this notice. Comments, motions to intervene, notices of intent, and competing applications may be filed electronically via the Internet. See 18 CFR 385.2001(a)(1)(iii) and the instructions on the Commission's Website (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly recommends electronic filing, documents may also be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project, including a copy of the application can be viewed or printed on the “eLibrary” link of the Commission's Web site at http://www.ferc.gov/docs-filing/elibrary.asp. Enter the docket number (P-13795) in the docket number field to access the document. For assistance, contact FERC Online Support.

Kimberly D. Bose,
Secretary.

[FR Doc. 2010-14721 Filed 6-17-10; 8:45 am]

BILLING CODE 6717-01-P